DEPARTMENT OF HOUSING AND URBAN DEVELOPMENT

[Docket No. FR-5030-FA-11]

Announcement of Funding Awards for the Brownfields Economic Development Initiative (BEDI) Fiscal Year 2006

AGENCY: Office of the Assistant Secretary for Community Planning and Development, HUD.

ACTION: Notice of funding awards.

SUMMARY: In accordance with section 102 (a)(4)(C) of the Department of Housing and Urban Development Reform Act of 1989, this announcement notifies the public of past funding decisions made by the Department in competitions for funding under the Notice of Funding Availability (NOFA) for the Brownfields Economic Development Initiative (BEDI). This announcement contains the names of the awardees and the amounts of the awards made available by HUD.

FOR FURTHER INFORMATION CONTACT: Otto V. Banks, Deputy Assistant Secretary, Office of Economic Development, Office of Community Planning and Development, 451 Seventh Street, SW., Room 7136, Washington, DC 20410-7000; telephone (202) 708-4091 (this is not a toll-free number). Hearing- and speech-impaired persons may access this number via TTY by calling the Federal Relay Service toll-free at 1-800-877-8339. For general information on this and other HUD programs, call Community Connections at 1-800-998-9999 or visit the HUD Web site at http://www.hud.gov.

SUPPLEMENTARY INFORMATION: The Brownfields Economic Development Initiative (BEDI) is administered by the Office of Economic Development under the Assistant Secretary for Community Planning and Development. The Office of Economic Development administers HUD's ongoing grant programs to assist local governments, nonprofit organizations and the private sector in economic development efforts.

BEDI was enacted in section 108(q) of the Housing and Community Development Act of 1974, as amended. Eligible applicants include units of general local government eligible for assistance under the Community Development Block Grant (CDBG) program, as well as urban counties that are eligible under the CDBG program. Each unit of general local government or CDBG-eligible urban county must use its BEDI award to enhance the security of a loan guaranteed by HUD under section 108 of the Housing and Community Development Act of 1974, as amended, for the same project, or to improve the viability of a project financed with the section 108-guaranteed loan. The BEDI program provides each grantee funding for the redevelopment of abandoned, idled or underutilized industrial or commercial facilities where expansion or redevelopment is complicated by environmental contamination as defined by the NOFA in each fiscal year.

On March 8, 2006, (71 FR 11712) HUD published a Super Notice of Funding Availability (SuperNOFA) announcing the availability of approximately $10,000,000 in FY 2006 funds for the BEDI program. The Department reviewed, evaluated and scored the applications received based on the criteria in the SuperNOFA. As a result, HUD funded the applications announced below, and, in accordance with section 102(a)(4)(C) of the Department of Housing and Urban Development Reform Act of 1989 (103 Stat. 1987, U.S.C. 3545), the Department is publishing details concerning the recipients of funding awards, as set forth below.

Dated: December 20, 2007.
William H. Eargle,
Deputy Assistant Secretary for Operations, Office of Community Planning and Development.

Fiscal Year 2006 Funding Awards for the Brownfields Economic Development Initiative Program
Recipient | State | Amount
Mooresville | NC | $650,000.00
Rocky Mount | NC | 1,000,000.00
Lawton | OK | 1,000,000.00
Pittsburgh | PA | 1,000,000.00
Reading | PA | 500,000.00
Vancouver | WA | 1,000,000.00
Total |  | 5,150,000.00

[FR Doc. E8-462 Filed 1-11-08; 8:45 am]

BILLING CODE 4210-67-P